DEPARTMENT OF COMMERCE

National Institute of Standards and Technology

[Docket No. 041119324-4324-01]

Request for Technical Input—U.S.-China Workshop on Standards and Conformity Assessment

AGENCY: National Institute of Standards and Technology, Department of Commerce.

ACTION: Request for workshop recommendations.

SUMMARY: The National Institute of Standards and Technology (NIST) invites interested parties to submit recommendations for focus areas in a US-China Workshop on Standards and Conformity Assessment. Recommendations should include general policy issues and specific sectors and topics where information exchange about the U.S. and Chinese systems of standards development, conformity assessment, and metrology may facilitate trade. The prospective workshop is tentatively scheduled as a two or three day program to be held in late August or early September 2005. This notice is not an invitation for proposals to fund grants, contracts or cooperative agreements of any kind. NIST will consider recommendations based upon which workshop focus areas would be most useful to intended audiences.

DATES: Recommendations must be submitted to NIST no later than 5 p.m., EST, January 15, 2005.

ADDRESSES: All recommendations must be submitted to Dr. Ajit Jillavenkatesa via e-mail (ajit.jilla@nist.gov) or by mail to 100 Bureau Drive, Stop 2100, Gaithersburg, MD 20899.

FOR FURTHER INFORMATION CONTACT: Ajit Jillavenkatesa (301) 975-5089, ajit.jilla@nist.gov.

SUPPLEMENTARY INFORMATION: The proposed fourth US-China Workshop on Standards and Conformity Assessment expands the continuing dialog between the U.S. and China to address issues related to development of standards, their adoption and/or implementation, and conformity assessment procedures impacting trade between the two countries. The workshop is designed to provide timely information and facilitate dialog between U.S. and Chinese industry and government experts on developments both in general policy matters and issues in specific sectors, and to explore means for future collaboration.

The proposed workshop is a two or three day program offering an overview of the roles of the Government and private sector in both the United States and China, and regional and international organizations engaged in standards development and conformity assessment practices. Specific workshop objectives are to: (1) Familiarize participants with practices in the U.S. and China in the areas of metrology, standardization, and conformity assessment; (2) describe and understand the roles of the U.S. and Chinese governments and the private sector in developing and implementing standards; (3) develop professional contacts as a basis for strengthening technical ties and enhancing trade; and (4) discuss specific standards and conformity assessment-related technical barriers.

Workshop recommendations (maximum 3 pages) must address at minimum the following points, in the order noted and labeled accordingly:

1. Name and description of the recommending organization. Provide the primary mailing address and a brief description of the organization, including the name, telephone number and e-mail address of the primary point of contact.

2. Industry sector for workshop focus. Provide a description of the suggested industrial sector and focus area for break-out sessions during the workshop. Consider the goals and potential benefits. Also, identify standards and conformity assessment related issues that currently or could pose market barriers.

3. Principal topics. Describe the suggested topics for the workshop, for inclusion in a plenary session and break-out sessions.

4. Please state which venue for holding the workshop, the U.S. (Washington, DC area) or China (Beijing), would be most convenient and include a brief explanation as to why.

5. Proposed foreign participants. Provide a representative list of the organizations that you would like to see invited to participate in the workshop, including a description of their function or business and their country of incorporation or origin. Also, please identify potential Chinese participants and speakers.

6. U.S. stakeholder participants (e.g., associations, agencies, companies, users, others). Provide a list of the U.S.-based organizations that are likely to partner with you for participation in the workshop.

7. Proposed focus area objectives. Describe the intended goals to be attained and why they are important.

Additional information about the first three workshops in this series is available at http://ts.nist.gov/ts/htdocs/210/gsig/apec1.htm#workshop, http://www.technology.gov/Prel/pr040819.htm, http://www.mac.doc.gov/china/workshop%20summary.htm.

Dated: December 8, 2004.
Hratch G. Semerjian,
Acting Director.

[FR Doc. 04-27646 Filed 12-16-04; 8:45 am]

BILLING CODE 3510-13-P